FEDERAL COMMUNICATIONS COMMISSION

47 CFR Parts 1, 2, 25, 73, 74, 90, and 97

[DA No. 08-530]

Non-Substantive Revisions to the Table of Frequency Allocations

AGENCY: Federal Communications Commission.

ACTION: Final rule.

SUMMARY: This document makes non-substantive, editorial revisions to the Commission's Table of Frequency Allocations (Allocation Table) and to various other Commission Rules. The purpose of this action is to update and clarify the Allocation Table, to remove obsolete and outdated provisions from the Commission's Rules, and to ensure that the Allocation Table and related rules are consistent with the Commission's decisions in recent rulemaking proceedings.

DATES: Effective May 6, 2008.

FOR FURTHER INFORMATION CONTACT: Tom Mooring, Office of Engineering and Technology, (202) 418-2450, e-mail: Tom.Mooring@fcc.gov.

SUPPLEMENTARY INFORMATION: This is a summary of the Commission's Memorandum Opinion and Order, DA 08-530, adopted March 11, 2008 and released March 12, 2008. The full text of this document is available on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Summary of the Report and Order

1. By this action, the Commission amends its rules to make non-substantive, editorial revisions to the Allocation Table and related rule sections in part 2, and to the part 1 quiet zone rules, and to the service rules for satellite communications, international broadcast stations, aural broadcast auxiliary stations, the radiolocation service, and the Amateur Radio Service. These amendments to the Allocation Table are being implemented with the concurrence of the National Telecommunications and Information Administration (NTIA). The purpose of this action is to update and clarify the Allocation Table, as well as to remove obsolete and outdated provisions from the Commission's rules. In doing so, we can also ensure that the Allocation Table and related rules are consistent with the Commission's decisions in recent rulemaking proceedings. This action is not intended to modify or otherwise change any licensee's underlying legal rights and/or responsibilities.

2. This action follows the model used in past Table Clean-up Orders, and is important because it helps ensure consistency between the allocation tables maintained by the Commission and NTIA. Among the revisions, the document:

• Updates the Allocation Table and associated service rules to no longer show now-concluded transition periods for the secondary amateur service allocation in the band 75.5-76 GHz and for international broadcast stations.

• Revises the part 25 rules to reflect a prior Commission decision that allocated feeder link spectrum for Non-Geostationary Satellite Orbit Mobile-Satellite Service systems.

• Makes conforming edits to the Allocation Table to accurately portray a variety of Commission decisions that were successfully updated within the Commission's service rules but that were left out of the Allocation Table.

• Updates numerous footnotes to the Allocation Table for consistency and to reflect corrected coordinates for Federal Government facilities, such as radio astronomy sites.

• Corrects typographical errors, updates the FCC rule part cross references, and clarifies the introductory language that describes the United States allocations.

Administrative Procedures Act and Ordering Clause

3. Parts 1, 2, 25, 73, 74, 90, and 97 of the Commission's rules are amended herein by incorporating non-substantive, editorial revisions only. Therefore, there is good cause for not using notice and comment procedure in this case, and for shortening the effective date of the amendments from a date not less than 30 days after publication in the Federal Register to the date of publication in the Federal Register. We find that the normal procedures for notice and comment and for publication as required under section 553 of the Administrative Procedures Act would be impracticable, unnecessary, or contrary to the public interest. See 5 U.S.C. 553(b)(3)(B), (d)(3); Kessler v. FCC, 326 F.2d 673 (DC Cir. 1963). Furthermore, the International Table, the Federal Table, and the FCC Rule Part(s) column within 47 CFR 2.106 are included in the Commission's rules for informational purposes only and are therefore exempt from the notice provisions of the Administrative Procedures Act.

4. Accordingly, it is ordered that 47 CFR parts 1, 2, 25, 73, 74, 90, and 97 of the Commission's rules, are amended and are effective upon date of publication in the Federal Register. This action is taken pursuant to authority found in sections 4(i) and 303 of the Communications Act of 1934, as amended, 47 U.S.C. 154(i) and 303, and in §§ 0.31, 0.231(b) and 0.241 of the Commission's rules, 47 CFR 0.31, 0.231(b) and 0.241.

5. The Commission will not send a copy of this Memorandum Opinion and Order (MO&O), pursuant to the Congressional Review Act. The MO&O does not change any rules; it makes non-substantive, editorial revisions to the Table of Frequency Allocation and to various other Commission rules.

List of Subjects in 47 CFR Parts 1, 2, 25, 73, 74, 90 and 97

Reporting and recordkeeping requirements.

Federal Communications Commission.
Marlene H. Dortch,
Secretary.

Rule Changes

For the reasons discussed in the preamble, the Federal Communications Commission amends 47 CFR parts 1, 2, 25, 73, 74, 90, and 97 to read as follows:

PART 1—PRACTICE AND PROCEDURE

1. The authority citation for part 1 continues to read as follows:

Authority: 15 U.S.C. 79 et seq.; 47 U.S.C. 151, 154(i), 154(j), 155, 157, 225, 303(r), and 309.

2. Section 1.924 is amended by revising paragraph (g)(1) to read as follows:

§ 1.924 Quiet zones.

* * * * *

(g) * * *

(1) Applicants and licensees planning to construct and operate a new or modified station within the area bounded by a circle with a radius of 100 kilometers (62.1 miles) that is centered on 37°56′44″ N, 75°27′37″ W (Wallops Island) or 64°58′22″ N, 147°30′04″ W (Fairbanks) or within the area bounded by a circle with a radius of 65 kilometers (40.4 miles) that is centered on 39°00′02″ N, 76°50′29″ W (Greenbelt) must notify the National Oceanic and Atmospheric Administration (NOAA) of the proposed operation. For this purpose, NOAA maintains the GOES coordination Web page at http://www.osd.noaa.gov/radio/frequency.htm, which provides the technical parameters of the earth stations and the point-of-contact for the notification. The notification shall include the following information: Requested frequency, geographical coordinates of the antenna location, antenna height above mean sea level, antenna directivity, emission type, equivalent isotropically radiated power, antenna make and model, and transmitter make and model.

* * * * *

PART 2—FREQUENCY ALLOCATIONS AND RADIO TREATY MATTERS; GENERAL RULES AND REGULATIONS

3. The authority citation for part 2 continues to read as follows:

Authority: 47 U.S.C. 154, 302a, 303, and 336, unless otherwise noted.

4. Section 2.1(c) is amended by adding the terms “conterminous United States” and “insular area” in alphabetical order and by revising the term “Radiolocation Mobil Station” to read “Radiolocation Mobile Station.”

§ 2.1 Terms and definitions.

* * * * *

(c) * * *

* * * * *

Conterminous United States. The contiguous 48 States and the District of Columbia. (FCC)

* * * * *

Insular Area. A jurisdiction that is neither a part of one of the several States nor a Federal district. The U.S. insular areas are listed in 47 CFR 2.105(a) at notes 2 and 3. (FCC)

* * * * *

5. Section 2.105 is amended by revising paragraphs (a), (b), (d)(5)(iv), and (f), by revising footnotes 1 through 6 and removing footnote 7, by adding new paragraph (d)(6), and by revising the heading of paragraph (d) to read as follows:

§ 2.105 United States Table of Frequency Allocations.

(a) The United States Table of Frequency Allocations (United States Table) is subdivided into the Federal Table of Frequency Allocations (Federal Table, column 4 of § 2.106) and the non-Federal Table of Frequency Allocations (non-Federal Table, column 5 of § 2.106). The United States Table is based on the Region 2 Table because the relevant area of jurisdiction is located primarily in Region 2 ¹ (i.e., the 50 States, the District of Columbia, the Caribbean insular areas,² and some of the Pacific insular areas).³ The Federal Table is administered by NTIA ⁴ and the non-Federal Table is administered by the Federal Communications Commission (FCC).⁵

¹ See 2.104(b) for definitions of the ITU Regions.

² The operation of stations in the U.S. insular areas located in Region 2 is generally governed by the United States Table. The U.S. insular areas located in Region 2 are comprised of the Caribbean insular areas and two of the eleven Pacific insular areas. The Caribbean insular areas are Puerto Rico, the United States Virgin Islands, and Navassa Island. The Pacific insular areas located in Region 2 are Johnston Atoll and Midway Atoll.

³ The operation of stations in the Pacific insular areas located in Region 3 is generally governed by the Region 3 Table (i.e., column 3 of § 2.106). The Pacific insular areas located in Region 3 are American Samoa, Guam, the Northern Mariana Islands, Baker Island, Howland Island, Jarvis Island, Kingman Reef, Palmyra Island, and Wake Island.

⁴ Section 305(a) of the Communications Act of 1934, as amended. See Public Law 102-538, 106 Stat. 3533 (1992).

⁵ The Communications Act of 1934, as amended.

(b) In the United States, radio spectrum may be allocated to either Federal or non-Federal use exclusively, or for shared use. In the case of shared use, the type of service(s) permitted need not be the same [e.g., Federal FIXED, non-Federal MOBILE]. The terms used to designate categories of services and allocations ⁶ in columns 4 and 5 of § 2.106 correspond to the terms in the ITU Radio Regulations.

⁶ The radio services are defined in 47 CFR 2.1.

* * * * *

(d) Format of the United States Table. * * *

(5) * * *

(iv) Any footnote consisting of the letter “G” followed by one or more digits, e.g., G2, denotes a stipulation applicable only to Federal operations. Federal footnotes appear solely in the Federal Table (column 4).

(6) The coordinates of latitude and longitude that are listed in United States, Federal, and non-Federal footnotes are referenced to the North American Datum of 1983 (NAD 83).

* * * * *

(f) The FCC Online Table of Frequency Allocations is updated shortly after a final rule that amends § 2.106 is released. The address for the FCC Radio Spectrum Home Page, which includes the FCC Online Table and the FCC Allocation History File, is http://www.fcc.gov/oet/spectrum.

6. Amend § 2.106 as follows:

a. The Table preceding the list of international footnotes is revised.

b. In the list of international footnotes, revise footnotes 5.155, 5.237, 5.339, 5.438, 5.462A, 5.469A, and 5.476A.

c. In the list of United States (US) footnotes, add footnote US1; revise footnotes US7, US11, US81, US90, US93, US99, US116, US117, US201, US216, US217, US222, US229, US230, US247, US251, US252, US259, US262, US265, US267, US273, US285, US290, US294, US299, US301, US307, US308, US309, US310, the introductory text and table of US311, US315, US316, US323, US324, US334, US335, US337, US338, US342, US344, US346, US348, US351, US353, US354, US355, US359, US360, US362, US366, US368, US378, US381, US388, US396, US397, US399, and US401; and remove footnotes US215, US302, US321, and US387.

d. In the list of non-Federal Government (NG) footnotes, add footnotes NG1 and NG30; revise footnotes NG28, NG51, NG53, NG56, NG66, NG112, NG124, NG141, NG143, NG144, NG147, NG149, NG155, NG158, NG159, NG160, NG163, NG167, NG172, NG173, NG175, and NG184; and remove footnote NG31.

e. In the list of Federal Government (G) footnotes, revise footnotes G2, G6, and G133; remove footnotes G31 and G106; and add footnote G127.

The revisions and additions read as follows:

§ 2.106 Table of Frequency Allocations.

* * * * *

BILLING CODE 6712-01-P

BILLING CODE 6712-01-C

International Footnotes

* * * * *

5.155 Additional allocation: in Armenia, Azerbaijan, Belarus, Bulgaria, the Russian Federation, Georgia, Kazakhstan, Moldova, Mongolia, Uzbekistan, Kyrgyzstan, Slovakia, the Czech Rep., Tajikistan, Turkmenistan and Ukraine, the band 21850-21870 kHz is also allocated to the aeronautical mobile (R) service on a primary basis.

* * * * *

5.237 Additional allocation: in Congo (Rep. of the), Eritrea, Ethiopia, Gambia, Guinea, the Libyan Arab Jamahiriya, Malawi, Mali, Sierra Leone, Somalia, Chad and Zimbabwe, the band 174-223 MHz is also allocated to the fixed and mobile services on a secondary basis.

* * * * *

5.339 The bands 1370-1400 MHz, 2640-2655 MHz, 4950-4990 MHz and 15.20-15.35 GHz are also allocated to the space research (passive) and Earth exploration-satellite (passive) services on a secondary basis.

* * * * *

5.438 Use of the band 4200-4400 MHz by the aeronautical radionavigation service is reserved exclusively for radio altimeters installed on board aircraft and for the associated transponders on the ground. However, passive sensing in the Earth exploration-satellite and space research services may be authorized in this band on a secondary basis (no protection is provided by the radio altimeters).

* * * * *

5.462A In Regions 1 and 3 (except for Japan), in the band 8025-8400 MHz, the Earth exploration-satellite service using geostationary satellites shall not produce a power flux-density in excess of the following provisional values for angles of arrival (θ), without the consent of the affected administration:

−174 dB(W/m²) in a 4 kHz band for 0° ≤ θ < 5°

−174 + 0.5 (−5) dB(W/m2) in a 4 kHz band for 5° ≤ θ < 25°

−164 dB(W/m2) in a 4 kHz band for 25° ≤ θ ≤ 90°

These values are subject to study under Resolution 124 (WRC-97). ⁶

⁶ Note by the Secretariat: This Resolution was revised by WRC-2000.

* * * * *

5.469A In the band 8550-8650 MHz, stations in the Earth exploration-satellite service (active) and space research service (active) shall not cause harmful interference to, or constrain the use and development of, stations of the radiolocation service.

* * * * *

5.476A In the band 9500-9800 MHz, stations in the Earth exploration-satellite service (active) and space research service (active) shall not cause harmful interference to, or constrain the use and development of, stations of the radionavigation and radiolocation services.

* * * * *

United States (US) Footnotes

* * * * *

US1 The bands 2501-2502 kHz, 5003-5005 kHz, 10003-10005 kHz, 15005-15010 kHz, 19990-19995 kHz, 20005-20010 kHz, and 25005-25010 kHz are also allocated to the space research service on a secondary basis for Federal use. In the event of interference to the reception of the standard frequency and time broadcasts, these space research transmissions are subject to immediate temporary or permanent shutdown.

US7 In the band 420-450 MHz and within the following areas, the peak envelope power output of a transmitter employed in the amateur service shall not exceed 50 watts, unless expressly authorized by the FCC after mutual agreement, on a case-by-case basis, between the District Director of the applicable field office and the military area frequency coordinator at the applicable military base. For areas (e) through (g), the appropriate military coordinator is located at Peterson AFB, CO.

(a) Arizona, Florida, and New Mexico.

(b) Those portions of California and Nevada that are south of latitude 37°10′ N.

(c) That portion of Texas that is west of longitude 104° W.

(d) Within 322 km (200 miles) of Eglin AFB, FL (30°30′ N, 86°30′ W); Patrick AFB, FL (28°21′ N, 80°43′ W); and the Pacific Missile Test Center, Point Mugu, CA (34°09′ N, 119°11′ W).

(e) Within 240 km (150 miles) of Beale AFB, CA (39°08′ N, 121°26′ W).

(f) Within 200 km (124 miles) of Goodfellow AFB, TX (31°25′ N, 100°24′ W) and Robins AFB, GA (32°38′ N, 83°35′ W).

(g) Within 160 km (100 miles) of Clear, AK (64°17′ N, 149°10′ W); Concrete, ND (48°43′ N, 97°54′ W); and Otis AFB, MA (41°45′ N, 70°32′ W).

* * * * *

US11 On the condition that harmful interference is not caused to present or future Federal stations in the band 162-174 MHz, the frequencies 166.25 MHz and 170.15 MHz may be authorized to non-Federal stations, as follows:

(a) Eligibles in the Public Safety Radio Pool may be authorized to operate in the fixed and land mobile services for locations within 150 miles (241.4 kilometers) of New York City; and

(b) Remote pickup broadcast stations may be authorized to operate in the land mobile service for locations within the conterminous United States, excluding locations within 150 miles of New York City and the Tennessee Valley Authority Area (TVA Area). The TVA Area is bounded on the west by the Mississippi River, on the north by the parallel of latitude 37°30′ N, and on the east and south by that arc of the circle with center at Springfield, IL, and radius equal to the airline distance between Springfield, IL, and Montgomery, AL, subtended between the foregoing west and north boundaries.

* * * * *

US81 The band 38-38.25 MHz is used by both Federal and non-Federal radio astronomy observatories. No new fixed or mobile assignments are to be made and Federal stations in the band 38-38.25 MHz will be moved to other bands on a case-by-case basis, as required, to protect radio astronomy observations from harmful interference. As an exception, however, low powered military transportable and mobile stations used for tactical and training purposes will continue to use the band. To the extent practicable, the latter operations will be adjusted to relieve such interference as may be caused to radio astronomy observations. In the event of harmful interference from such local operations, radio astronomy observatories may contact local military commands directly, with a view to effecting relief. A list of military commands, areas of coordination, and points of contact for purposes of relieving interference may be obtained upon request from the Office of Engineering and Technology, FCC, Washington, DC 20554.

* * * * *

US90 In the band 2025-2110 MHz, the power flux-density at the Earth's surface produced by emissions from a space station in the space operation, Earth exploration-satellite, or space research service that is transmitting in the space-to-space direction, for all conditions and all methods of modulation, shall not exceed the following values in any 4 kHz sub-band:

(a) −154 dBW/m² for angles of arrival above the horizontal plane (δ) of 0° to 5°,

(b) −154 + 0.5(δ − 5) dBW/m² for δ of 5° to 25°, and

(c) −144 dBW/m² for δ of 25° to 90°.

US93 In the conterminous United States, the frequency 108.0 MHz may be authorized for use by VOR test facilities, the operation of which is not essential for the safety of life or property, subject to the condition that no interference is caused to the reception of FM broadcasting stations operating in the band 88-108 MHz. In the event that such interference does occur, the licensee or other agency authorized to operate the facility shall discontinue operation on 108 MHz and shall not resume operation until the interference has been eliminated or the complaint otherwise satisfied. VOR test facilities operating on 108 MHz will not be protected against interference caused by FM broadcasting stations operating in the band 88-108 MHz nor shall the authorization of a VOR test facility on 108 MHz preclude the Commission from authorizing additional FM broadcasting stations.

US99 In the band 1668.4-1670 MHz, the meteorological aids service (radiosonde) will avoid operations to the maximum extent practicable. Whenever it is necessary to operate radiosondes in the band 1668.4-1670 MHz within the United States, notification of the operations shall be sent as far in advance as possible to the Electromagnetic Management Unit, Room 1030, National Science Foundation, 4201 Wilson Blvd., Arlington, VA 22230.

* * * * *

US116 In the bands 890-902 MHz and 935-941 MHz, no new assignments are to be made to Federal radio stations after July 10, 1970, except on a case-by-case basis to experimental stations. Federal assignments existing prior to July 10, 1970, shall be on a secondary basis to stations in the non-Federal land mobile service and shall be subject to adjustment or removal from the bands 890-902 MHz, 928-932 MHz, and 935-941 MHz at the request of the FCC.

US117 In the band 406.1-410 MHz, the following provisions shall apply:

(a) Stations in the fixed and mobile services are limited to a transmitter output power of 125 watts, and new authorizations for stations, other than mobile stations, are subject to prior coordination by the applicant in the following areas:

(1) Within Puerto Rico and the United States Virgin Islands, contact Spectrum Manager, Arecibo Observatory, HC3 Box 53995, Arecibo, PR 00612. Phone: 787-878-2612, Fax: 787-878-1861, E-mail: prcz@naic.edu.

(2) Within 350 km of the Very Large Array (34°04′44″ N, 107°37′06″ W), contact Spectrum Manager, National Radio Astronomy Observatory, P.O. Box O, 1003 Lopezville Road, Socorro, NM 87801. Phone: 505-835-7000, Fax: 505-835-7027, E-mail: nrao-rfi@nrao.edu.

(3) Within 10 km of the Table Mountain Observatory (40°07′50″ N, 105°14′40″ W) and for operations only within the sub-band 407-409 MHz, contact Radio Frequency Coordinator, Department of Commerce, 325 Broadway, Boulder, CO 80303. Phone: 303-497-6548, Fax: 303-497-3384.

(b) Non-Federal use is limited to the radio astronomy service and as provided by US13.

US201 In the band 460-470 MHz, space stations in the Earth exploration-satellite service may be authorized for space-to-Earth transmissions on a secondary basis with respect to the fixed and mobile services. When operating in the meteorological-satellite service, such stations shall be protected from harmful interference from other applications of the Earth exploration-satellite service. The power flux-density produced at the Earth′s surface by any space station in this band shall not exceed −152 dBW/m²/4 kHz.

* * * * *

US216 The frequencies 150.775 MHz, 150.790 MHz, 152.0075 MHz, and 163.250 MHz, and the bands 462.94688-463.19688 MHz and 467.94688-468.19688 shall be authorized for the purpose of delivering or rendering medical services to individuals (medical radiocommunication systems), and shall be authorized on a primary basis for Federal and non-Federal use. The frequency 152.0075 MHz may also be used for the purpose of conducting public safety radio communications that include, but are not limited to, the delivering or rendering of medical services to individuals.

(a) The use of the frequencies 150.775 MHz and 150.790 MHz is limited to mobile stations operating with a maximum e.r.p. of 100 watts. Airborne operations are prohibited.

(b) The use of the frequencies 152.0075 MHz and 163.250 MHz is limited to base stations that are authorized only for one-way paging communications to mobile receivers. Transmissions for the purpose of activating or controlling remote objects on these frequencies shall not be authorized.

(c) Non-Federal licensees in the Public Safety Radio Pool holding a valid authorization on May 27, 2005, to operate on the frequencies 150.7825 MHz and 150.7975 MHz may, upon proper renewal application, continue to be authorized for such operation; provided that harmful interference is not caused to present or future Federal stations in the band 150.05-150.8 MHz and, should harmful interference result, that the interfering non-Federal operation shall immediately terminate.

US217 In the band 420-450 MHz, pulse-ranging radiolocation systems may be authorized for use along the shoreline of the conterminous United States and Alaska. In the sub-band 420-435 MHz, spread spectrum radiolocation systems may be authorized within the conterminous United States and Alaska. All stations operating in accordance with this provision shall be secondary to stations operating in accordance with the Table of Frequency Allocations. Authorizations shall be granted on a case-by-case basis; however, operations proposed to be located within the following geographic areas should not expect to be accommodated:

(a) Arizona, Florida, and New Mexico.

(b) Those portions of California and Nevada that are south of latitude 37°10′ N.

(c) That portion of Texas that is west of longitude 104° W.

(d) Within 322 km (200 miles) of Eglin AFB, FL (30°30′ N, 86°30′ W); Patrick AFB, FL (28°21′ N, 80°43′ W); and the Pacific Missile Test Center, Point Mugu, CA (34°09′ N, 119°11′ W).

(e) Within 240 km (150 miles) of Beale AFB, CA (39°08′ N, 121°26′ W).

(f) Within 200 km (124 miles) of Goodfellow AFB, TX (31°25′ N, 100°24′ W) and Robins AFB, GA (32°38′ N, 83°35′ W).

(g) Within 160 km (100 miles) of Clear, AK (64°17′ N, 149°10′ W); Concrete, ND (48°43′ N, 97°54′ W); and Otis AFB, MA (41°45′ N, 70°32′ W).

* * * * *

US222 In the band 2025-2035 MHz, geostationary operational environmental satellite (GOES) earth stations in the space research and Earth exploration-satellite services may be authorized on a coequal basis for Earth-to-space transmissions for tracking, telemetry, and telecommand at Honolulu, HI (21°21′12″ N, 157°52′36″ W); Seattle, WA (47°34′15″ N, 122°33′10″ W); and Wallops Island, VA (37°56′44″ N, 75°27′42″ W).

* * * * *

US229 Federal use of the fixed and land mobile services in the band 216-220 MHz and of the aeronautical mobile service in the sub-band 217-220 MHz shall be limited to telemetering and associated telecommand operations. NTIA shall not authorize new Federal assignments in the sub-band 216-217 MHz. The sub-band 216.88-217.08 MHz is allocated to the radiodetermination service on a primary basis for Federal use, limited to the Navy′s Space Surveillance (SPASUR) radar system at the following nine sites.

(a) Three stations transmit at a very high power and other operations may be affected within the following areas:

Transmitter sites | Coordinates | Frequency | Interference radius
Gila River (Phoenix), AZ | 33°06′32″ N, 112°01′45″ W | 216.97 MHz | 150 km (93.2 miles).
Lake Kickapoo (Archer City), TX | 33°32′47″ N, 98°45′46″ W | 216.983 MHz | 250 km (155.3 miles).
Jordan Lake (Wetumpka), AL | 32°39′33″ N, 86°15′52″ W | 216.99 MHz | 150 km.

(b) Reception of the sub-band 216.965-216.995 MHz shall be protected from harmful interference within 50 kilometers (31.1 miles) of the following sites:

Receive sites | Coordinates
Elephant Butte, NM | 33°26′35″ N, 106°59′50″ W
Fort Stewart, GA | 31°58′36″ N, 081°30′34″ W
Hawkinsville, GA | 32°17′20″ N, 083°32′10″ W
Red River, AR | 33°19′48″ N, 093°33′01″ W
San Diego, CA | 32°34′42″ N, 116°58′11″ W
Silver Lake, MS | 33°08′42″ N, 091°01′16″ W

US230 The bands 422.1875-425.4875 MHz and 427.1875-429.9875 MHz are allocated to the land mobile service on a primary basis for non-Federal use within 80.5 kilometers (50 miles) of Cleveland, OH (41°29′51.2″ N, 81°41′49.5″ W) and Detroit, MI (42°19′48.1″ N, 83°02′56.7″ W). The bands 423.8125-425.4875 MHz and 428.8125-429.9875 MHz are allocated to the land mobile service on a primary basis for non-Federal use within 80.5 kilometers of Buffalo, NY (42°52′52.2″ N, 78°52′20.1″ W).

* * * * *

US247 The band 10100-10150 kHz is allocated to the fixed service on a primary basis outside the United States and its insular areas. Transmissions from stations in the amateur service shall not cause harmful interference to this fixed service use and stations in the amateur service shall make all necessary adjustments (including termination of transmission) if harmful interference is caused.

US251 The band 12.75-13.25 GHz is also allocated to the space research (deep space) (space-to-Earth) service for reception only at Goldstone, CA (35°20′ N, 116°53′ W).

US252 The band 2110-2120 MHz is also allocated to the space research service (deep space) (Earth-to-space) on a primary basis at Goldstone, CA (35°20′ N, 116°53′ W).

* * * * *

US259 In the band 17.3-17.7 GHz, Federal stations in the radiolocation service shall operate with an e.i.r.p. of less than 51 dBW.

* * * * *

US262 The band 7145-7190 MHz is also allocated to the space research service (deep space) (Earth-to-space) on a secondary basis for non-Federal use. Federal and non-Federal use of the bands 7145-7190 MHz and 34.2-34.7 GHz by the space research service (deep space) (Earth-to-space) and of the band 31.8-32.3 GHz by the space research service (deep space) (space-to-Earth) is limited to Goldstone, CA (35°20′ N, 116°53′ W).

* * * * *

US265 In the band 10.6-10.68 GHz, the fixed service shall be limited to an e.i.r.p. of 40 dBW and the power delivered to the antenna shall not exceed −3 dBW per 250 kHz.

* * * * *

US267 In the band 902-928 MHz, amateur stations shall transmit only in the sub-bands 902-902.4, 902.6-904.3, 904.7-925.3, 925.7-927.3, and 927.7-928 MHz within the States of Colorado and Wyoming, bounded by the area of latitudes 39° N and 42° N and longitudes 103° W and 108° W.

* * * * *

US273 In the bands 74.6-74.8 MHz and 75.2-75.4 MHz, stations in the fixed and mobile services are limited to a maximum power of 1 watt from the transmitter into the antenna transmission line.

* * * * *

US285 Under exceptional circumstances, the carrier frequencies 2635 kHz, 2638 kHz, and 2738 kHz may be authorized to coast stations.

US290 In the band 1900-2000 kHz, amateur stations may continue to operate on a secondary basis to the radiolocation service, pending a decision as to their disposition through a future rule making proceeding in conjunction with the implementation of the standard broadcasting service in the band 1625-1705 kHz.

US294 In the spectrum below 490 kHz, electric utilities operate Power Line Carrier (PLC) systems on power transmission lines for communications important to the reliability and security of electric service to the public. These PLC systems operate under the provisions of 47 CFR part 15 or Chapter 7 of the NTIA Manual, on an unprotected and noninterference basis with respect to authorized radio users. Notification of intent to place new or revised radio frequency assignments or PLC frequency uses in the bands below 490 kHz is to be made in accordance with the Rules and Regulations of the FCC and NTIA, and users are urged to minimize potential interference to the degree practicable. This footnote does not provide any allocation status to PLC radio frequency uses.

* * * * *

US299 In Alaska, the band 1615-1705 kHz is also allocated to the maritime mobile and Alaska fixed services on a secondary basis to Region 2 broadcast operations.

* * * * *

US301 Except as provided in NG30, broadcast auxiliary stations licensed as of November 21, 1984, to operate in the band 942-944 MHz may continue to operate on a co-equal primary basis to other stations and services operating in the band in accordance with the Table of Frequency Allocations.

* * * * *

US307 The band 5150-5216 MHz is also allocated to the fixed-satellite service (space-to-Earth) for feeder links in conjunction with the radiodetermination-satellite service operating in the bands 1610-1626.5 MHz and 2483.5-2500 MHz. The total power flux-density at the Earth′s surface shall in no case exceed ^159 dBW/m² per 4 kHz for all angles of arrival.

US308 In the bands 1549.5-1558.5 MHz and 1651-1660 MHz, those requirements of the aeronautical mobile-satellite (R) service that cannot be accommodated in the bands 1545-1549.5 MHz, 1558.5-1559 MHz, 1646.5-1651 MHz, and 1660-1660.5 MHz shall have priority access with real-time preemptive capability for communications in the mobile-satellite service. Systems not interoperable with the aeronautical mobile-satellite (R) service shall operate on a secondary basis. Account shall be taken of the priority of safety-related communications in the mobile-satellite service.

US309 In the bands 1545-1559 MHz, transmissions from terrestrial aeronautical stations directly to aircraft stations, or between aircraft stations, in the aeronautical mobile (R) service are also authorized when such transmissions are used to extend or supplement the satellite-to-aircraft links. In the band 1646.5-1660.5 MHz, transmissions from aircraft stations in the aeronautical mobile (R) service directly to terrestrial aeronautical stations, or between aircraft stations, are also authorized when such transmissions are used to extend or supplement the aircraft-to-satellite links.

US310 In the band 14.896-15.121 GHz, non-Federal space stations in the space research service may be authorized on a secondary basis to transmit to Tracking and Data Relay Satellites subject to such conditions as may be applied on a case-by-case basis. Such transmissions shall not cause harmful interference to authorized Federal stations. The power flux-density (pfd) produced by such non-Federal stations at the Earth′s surface in any 1 MHz band for all conditions and methods of modulation shall not exceed:

−124 dB(W/m² for 0° < θ ≤ 5°

−124 + (θ −5)/2 dB(W/m²) for 5° < θ ≤ 25°

−114 dB(W/m²) for 25° < θ ≤ 90°

where θ is the angle of arrival of the radio-frequency wave (degrees above the horizontal). These limits relate to the pfd and angles of arrival which would be obtained under free-space propagation conditions.

US311 Radio astronomy observations may be made in the bands 1350-1400 MHz, 1718.8-1722.2 MHz, and 4950-4990 MHz on an unprotected basis at the following radio astronomy observatories:

Allen Telescope Array, Hat Creek, CA | Rectangle between latitudes 40°00′ N and 42°00′ N and between longitudes 120°15′ W and 122°15′ W.
NASA Goldstone Deep Space
Communications Complex, Goldstone, CA | 80 kilometers (50 mile) radius centered on 35°20′ N, 116°53′ W.
National Astronomy and Ionosphere Center, Arecibo, PR | Rectangle between latitudes 17°30′ N and 19°00′ N and between longitudes 65°10′ W and 68°00′ W.
National Radio Astronomy Observatory, Socorro, NM | Rectangle between latitudes 32°30′ N and 35°30′ N and between longitudes 106°00′ W and 109°00′ W.
National Radio Astronomy Observatory, Green Bank, WV | Rectangle between latitudes 37°30′ N and 39°15′ N and between longitudes 78°30′ W and 80°30′ W.
National Radio Astronomy Observatory, Very Long Baseline Array Stations | 80 kilometer radius centered on:

| North latitude | West longitude
Brewster, WA | 48°08′ | 119°41′
Fort Davis, TX | 30°38′ | 103°57′
Hancock, NH | 42°56′ | 71°59′
Kitt Peak, AZ | 31°57′ | 111°37′
Los Alamos, NM | 35°47′ | 106°15′
Mauna Kea, HI | 19°48′ | 155°27′
North Liberty, IA | 41°46′ | 91°34′
Owens Valley, CA | 37°14′ | 118°17′
Pie Town, NM | 34°18′ | 108°07′
Saint Croix, VI | 17°45′ | 64°35′

Owens Valley Radio Observatory, Big Pine, CA | Two contiguous rectangles, one between latitudes 36°00′ N and 37°00′ N and between longitudes 117°40′ W and 118°30′ W and the second between latitudes 37°00′ N and 38°00′ N and between longitudes 118°00′ W and 118°50′ W.

* * * * *

US315 In the bands 1530-1544 MHz and 1626.5-1645.5 MHz, maritime mobile-satellite distress and safety communications, e.g., GMDSS, shall have priority access with real-time preemptive capability in the mobile-satellite service. Communications of mobile-satellite system stations not participating in the GMDSS shall operate on a secondary basis to distress and safety communications of stations operating in the GMDSS. Account shall be taken of the priority of safety-related communications in the mobile-satellite service.

US316 The band 2900-3000 MHz is also allocated to the meteorological aids service on a primary basis for Federal use. Operations in this service are limited to Next Generation Weather Radar (NEXRAD) systems where accommodation in the band 2700-2900 MHz is not technically practical and are subject to coordination with existing authorized stations.

* * * * *

US323 In the band 148-149.9 MHz, no individual mobile earth station shall transmit on the same frequency being actively used by fixed and mobile stations and shall transmit no more than 1% of the time during any 15 minute period; except, individual mobile earth stations in this band that do not avoid frequencies actively being used by the fixed and mobile services shall not exceed a power density of −16 dBW/4 kHz and shall transmit no more than 0.25% of the time during any 15 minute period. Any single transmission from any individual mobile earth station operating in this band shall not exceed 450 ms in duration and consecutive transmissions from a single mobile earth station on the same frequency shall be separated by at least 15 seconds. Land earth stations in this band shall be subject to electromagnetic compatibility analysis and coordination with terrestrial fixed and mobile stations.

US324 In the band 400.15-401 MHz, Federal and non-Federal satellite systems shall be subject to electromagnetic compatibility analysis and coordination.

* * * * *

US334 In the band 17.8-20.2 GHz, Federal space stations in both geostationary (GSO) and non-geostationary satellite orbits (NGSO) and associated earth stations in the fixed-satellite service (space-to-Earth) may be authorized on a primary basis. For a Federal geostationary satellite network to operate on a primary basis, the space station shall be located outside the arc, measured from east to west, 70° West longitude to 120° West longitude. Coordination between Federal fixed-satellite systems and non-Federal space and terrestrial systems operating in accordance with the United States Table of Frequency Allocations is required.

(a) In the sub-band 17.8-19.7 GHz, the power flux-density (pfd) at the surface of the Earth produced by emissions from a Federal GSO space station or from a Federal space station in a NGSO constellation of 50 or fewer satellites, for all conditions and for all methods of modulation, shall not exceed the following values in any 1 MHz band:

(1) −115 dB(W/m²) for angles of arrival above the horizontal plane (δ) between 0° and 5°,

(2) −115 + 0.5(δ−5) dB(W/m²) for δ between 5° and 25°, and

(3) −105 dB(W/m²) for δ between 25° and 90°.

(b) In the sub-band 17.8-19.3 GHz, the pfd at the surface of the Earth produced by emissions from a Federal space station in an NGSO constellation of 51 or more satellites, for all conditions and for all methods of modulation, shall not exceed the following values in any 1 MHz band:

(1) −115 − X dB(W/m²) for δ between 0° and 5°,

(2) −115 − X + ((10 + X)/20)(δ−5) dB(W/m²) for δ between 5° and 25°, and

(3) −105 dB(W/m²) for δ between 25° and 90°; where X is defined as a function of the number of satellites, n, in an NGSO constellation as follows:

For n ≤ 288, X = (5/119) (n−50) dB; and

For n > 288, X = (1/69) (n + 402) dB.

US335 In the band 220-222 MHz, Federal and non-Federal use of the fixed and land mobile services is restricted as follows:

(a) The sub-bands 220-220.55/221.0-221.55, 220.6-220.8/221.6-221.8, 220.85-220.9/221.85-221.9 and 220.925-221/221.925-222 MHz (Channels 1-110, 121-160, 171-180 and 186-200, respectively) are available for exclusive non-Federal use. These sub-bands are also available for temporary fixed geophysical telemetry operations on a secondary basis to the fixed and land mobile services.

(b) The sub-bands 220.55-220.6/221.55-221.6 MHz (Channels 111-120) are available for exclusive Federal use.

(c) The sub-bands 220.8-220.85/221.8-221.85 and 220.9-220.925/221.9-221.925 MHz (Channels 161-170 and 181-185, respectively) are available for shared Federal and non-Federal use.

US337 In the band 13.75-13.8 GHz, the FCC shall coordinate earth stations in the fixed-satellite service with NTIA on a case-by-case basis in order to minimize harmful interference to the Tracking and Data Relay Satellite System's forward space-to-space link (TDRSS forward link-to-LEO).

US338 In the band 2305-2310 MHz, space-to-Earth operations are prohibited. Additionally, in the band 2305-2320 MHz, the FCC shall coordinate all Wireless Communications Service (WCS) operations within 50 km of NASA's Deep Space facility in Goldstone, CA (35°20′ N, 116°53′ W) with NTIA in order to minimize harmful interference to deep space reception in the band 2290-2300 MHz.

* * * * *

US342 In making assignments to stations of other services to which the bands:

13360-13410 kHz

25550-25670 kHz

37.5-38.25 MHz

322-328.6 MHz*

1330-1400 MHz*

1610.6-1613.8 MHz*

1660-1660.5 MHz*

1668.4-1670 MHz*

3260-3267 MHz*

3332-3339 MHz*

3345.8-3352.5 MHz*

4825-4835 MHz*

4950-4990 MHz

6650-6675.2 MHz*

14.47-14.5 GHz*

22.01-22.21 GHz*

22.21-22.5 GHz

22.81-22.86 GHz*

23.07-23.12 Gz*

31.2-31.3 GHz

36.43-36.5 GHz*

42.5-43.5 GHz

42.77-42.87 GHz*

43.07-43.17 GHz*

43.37-43.47 GHz*

48.94-49.04 GHz*

76-86 GHz

92-94 GHz

94.1-100 GHz

102-109.5 GHz

111.8-114.25 GHz

128.33-128.59 GHz*

129.23-129.49 GHz*

130-134 GHz

136-148.5 GHz

151.5-158.5 GHz

168.59-168.93 GHz*

171.11-171.45 GHz*

172.31-172.65 GHz*

173.52-173.85 GHz*

195.75-196.15 GHz*

209-226 GHz

241-250 GHz

252-275 GHz

are allocated (*indicates radio astronomy use for spectral line observations), all practicable steps shall be taken to protect the radio astronomy service from harmful interference. Emissions from spaceborne or airborne stations can be particularly serious sources of interference to the radio astronomy service (see ITU Radio Regulations at Nos. 4.5 and 4.6 and Article 29).

* * * * *

US344 In the band 5091-5250 MHz, the FCC shall coordinate earth stations in the fixed-satellite service (Earth-to-space) with NTIA (see Recommendation ITU-R S.1342). In order to better protect the operation of the international standard system (microwave landing system) in the band 5000-5091 MHz, non-Federal tracking and telecommand operations should be conducted in the band 5150-5250 MHz.

* * * * *

US346 Except as provided for below and by US222, Federal use of the band 2025-2110 MHz by the space operation service (Earth-to-space), Earth exploration-satellite service (Earth-to-space), and space research service (Earth-to-space) shall not constrain the deployment of the Television Broadcast Auxiliary Service, the Cable Television Relay Service, or the Local Television Transmission Service. To facilitate compatible operations between non-Federal terrestrial receiving stations at fixed sites and Federal earth station transmitters, coordination is required. To facilitate compatible operations between non-Federal terrestrial transmitting stations and Federal spacecraft receivers, the terrestrial transmitters in the band 2025-2110 MHz shall not be high-density systems (see Recommendations ITU-R SA.1154 and ITU-R F.1247). Military satellite control stations at the following sites shall operate on a co-equal, primary basis with non-Federal operations:

Facility | Coordinates
Naval Satellite Control Network, Prospect Harbor, ME | 44°24′16″ N, 068°00′46″ W
New Hampshire Tracking Station, New Boston AFS, NH | 42°56′52″ N, 071°37′36″ W
Eastern Vehicle Check-out Facility & GPS Ground Antenna & Monitoring Station, Cape Canaveral, FL | 28°29′09″ N, 080°34′33″ W
Buckley AFB, CO | 39°42′55″ N, 104°46′36″ W
Colorado Tracking Station, Schriever AFB, CO | 38°48′21″ N, 104°31′43″ W
Kirtland AFB, NM | 34°59′46″ N, 106°30′28″ W
Camp Parks Communications Annex, Pleasanton, CA | 37°43′51″ N, 121°52′50″ W
Naval Satellite Control Network, Laguna Peak, CA | 34°06′31″ N, 119°03′53″ W
Vandenberg Tracking Station, Vandenberg AFB, CA | 34°49′21″ N, 120°30′07″ W
Hawaii Tracking Station, Kaena Pt, Oahu, HI | 21°33′44″ N, 158°14′31″ W
Guam Tracking Stations, Anderson AFB, and Naval CTS, Guam | 13°36′54″ N, 144°51′18″ E

* * * * *

US348 The band 3650-3700 MHz is also allocated to the Federal radiolocation service on a primary basis at the following sites: St. Inigoes, MD (38°10′ N, 76°23′ W); Pascagoula, MS (30°22′ N, 88°29′ W); and Pensacola, FL (30°21′28″ N, 87°16′26″ W). The FCC shall coordinate all non-Federal operations within 80 km of these sites with NTIA on a case-by-case basis.

* * * * *

US351 In the band 1390-1400 MHz, Federal operations (except for medical telemetry and telecommand operations in the sub-band 1395-1400 MHz) are on a non-interference basis to non-Federal operations and shall not constrain implementation of non-Federal operations. However, Federal operations authorized as of March 22, 1995 at 17 sites identified below will be continued on a fully protected basis until January 1, 2009.

80 km radius of operation centered on:: State | 80 km radius of operation centered on:: Site | 80 km radius of operation centered on:: Coordinates
AK | Ft. Greely | 63°47′ N, 145°52′ W
AL | Ft. Rucker | 31°13′ N, 085°49′ W
AL | Redstone | 34°35′ N, 086°35′ W
AZ | Ft. Huachuca | 31°33′ N, 110°18′ W
AZ | Yuma | 32°29′ N, 114°20′ W
CA | China Lake | 35°41′ N, 117°41′ W
CA | Edwards AFB | 34°54′ N, 117°53′ W
CA | Pacific Missile Range | 34°07′ N, 119°30′ W
FL | Eglin AFB | 30°28′ N, 086°31′ W
MD | Aberdeen PG | 39°29′ N, 076°08′ W
MD | Patuxent River | 38°17′ N, 076°25′ W
NC | Cherry Point | 34°57′ N, 076°56′ W
NM | Holloman AFB | 33°29′ N, 106°50′ W
NM | WSM Range | 32°10′ N, 106°21′ W
OH | Wright-Patterson AFB | 39°50′ N, 084°03′ W
UT | Dugway PG | 40°11′ N, 112°53′ W
UT | Utah Test Range | 40°57′ N, 113°05′ W

US353 In the bands 56.24-56.29 GHz, 58.422-58.472 GHz, 59.139-59.189 GHz, 59.566-59.616 GHz, 60.281-60.331 GHz, 60.41-60.46 GHz, and 62.461-62.511 GHz, space-based radio astronomy observations may be made on an unprotected basis.

US354 In the band 58.422-58.472 GHz, airborne stations and space stations in the space-to-Earth direction shall not be authorized.

US355 In the band 10.7-11.7 GHz, non-geostationary satellite orbit licensees in the fixed-satellite service (space-to-Earth), prior to commencing operations, shall coordinate with the following radio astronomy observatories to achieve a mutually acceptable agreement regarding the protection of the radio telescope facilities operating in the band 10.6-10.7 GHz:

Observatory | North latitude | West longitude | Elevation (in meters)
Arecibo Observatory, PR | 18°20′39″ | 66°45′10″ | 496
Green Bank Telescope (GBT), WV | 38°25′59″ | 79°50′23″ | 825
Very Large Array (VLA), Socorro, NM | 34°04′44″ | 107°37′06″ | 2126
Very Long Baseline Array (VLBA) Stations:
Brewster, WA | 48°07′52″ | 119°41′00″ | 255
Fort Davis, TX | 30°38′06″ | 103°56′41″ | 1615
Hancock, NH | 42°56′01″ | 71°59′12″ | 309
Kitt Peak, AZ | 31°57′23″ | 111°36′45″ | 1916
Los Alamos, NM | 35°46′30″ | 106°14′44″ | 1967
Mauna Kea, HI | 19°48′05″ | 155°27′20″ | 3720
North Liberty, IA | 41°46′17″ | 91°34′27″ | 241
Owens Valley, CA | 37°13′54″ | 118°16′37″ | 1207
Pie Town, NM | 34°18′04″ | 108°07′09″ | 2371
St. Croix, VI | 17°45′24″ | 64°35′01″ | 16

* * * * *

US359 In the band 15.43-15.63 GHz, use of the fixed-satellite service (Earth-to-space) is limited to non-Federal feeder links of non-geostationary systems in the mobile-satellite service. The FCC shall coordinate Earth stations in this band with NTIA (see Annex 3 of Recommendation ITU-R S.1340).

US360 The band 33-36 GHz is also allocated to the fixed-satellite service (space-to-Earth) on a primary basis for Federal use. Coordination between Federal fixed-satellite service systems and non-Federal systems operating in accordance with the United States Table of Frequency Allocations is required.

* * * * *

US362 The band 1670-1675 MHz is allocated to the meteorological-satellite service (space-to-Earth) on a primary basis for Federal use. Earth station use of this allocation is limited to Wallops Island, VA (37°56′44″ N, 75°27′37″ W), Fairbanks, AK (64°58′22″ N, 147°30′04″ W), and Greenbelt, MD (39°00′02″ N, 76°50′29″ W). Applicants for non-Federal stations within 100 kilometers of the Wallops Island or Fairbanks coordinates and within 65 kilometers of the Greenbelt coordinates shall notify NOAA in accordance with the procedures specified in 47 CFR 1.924.

* * * * *

US366 In the bands 5900-5950 kHz, 7300-7350 kHz, 9400-9500 kHz, 11600-11650 kHz, 12050-12100 kHz, 13570-13600 kHz, 13800-13870 kHz, 15600-15800 kHz, 17480-17550 kHz, and 18900-19020 kHz, the following provisions shall apply to stations in the fixed and mobile except aeronautical mobile services:

(a) All Stations. Federal and non-Federal stations shall:

(1) Be limited to communicating only within the United States and its insular areas;

(2) Not cause harmful interference to the reception of, and must accept interference from, international broadcast stations;

(3) Be limited to the minimum power required to achieve reliable communications; and

(4) Take account of the seasonal use of frequencies by the broadcasting service published in accordance with Article 12 of the ITU Radio Regulations.

(b) Existing and Future Federal Stations. (1) Frequencies in all of the above listed frequency bands may be used by existing and future Federal stations in the fixed service; and

(2) Frequencies in the bands 5900-5950 kHz, 7300-7350 kHz, 13570-13600 kHz, and 13800-13870 kHz may also be used by existing and future Federal stations in the mobile except aeronautical mobile service.

(c) Grandfathered non-Federal Stations. (1) Frequencies in the bands 5900-5950 kHz, 7300-7350 kHz, 9400-9500 kHz, 11600-11650 kHz, 12050-12100 kHz, 13800-13870 kHz, and 15600-15800 kHz may continue to be used by non-Federal stations in the fixed service that were licensed prior to March 25, 2007; and

(2) Frequencies in the bands 5900-5950 kHz and 7300-7350 kHz may continue to be used by non-Federal stations in the mobile except aeronautical mobile service that were licensed prior to March 25, 2007.

* * * * *

US368 (a) The use of the bands 1390-1392 MHz and 1430-1432 MHz by the fixed-satellite service is limited to feeder links for the Non-Voice Non-Geostationary Mobile-Satellite Service and is contingent on:

(1) The completion of ITU-R studies on all identified compatibility issues as shown in Annex 1 of Resolution 745 (WRC-2003);

(2) Measurement of emissions from equipment that would be employed in operational systems and demonstrations to validate the studies as called for in Resolution 745 (WRC-2003); and

(3) Compliance with any technical and operational requirements that may be imposed at WRC-07 to protect other services in these bands and passive services in the band 1400-1427 MHz from unwanted emissions.

(b) The FCC shall coordinate individual assignments with NTIA (see, for example, Recommendations ITU-R RA.769-2 and ITU-R SA.1029-2) to ensure the protection of passive services in the band 1400-1427 MHz. As part of the coordination requirements, the feeder uplink and downlink systems shall be tested and certified to be in conformance with the technical and operational out-of-band requirements for the protection of passive services in the band 1400-1427 MHz. Certification and all supporting documentation shall be submitted to the FCC at least three months prior to launch.

US378 In the band 1710-1755 MHz, the following provisions apply:

(a) Federal fixed and tactical radio relay stations may operate indefinitely on a primary basis within 80 km of Cherry Point, NC (34°58′ N, 076°56′ W) and Yuma, AZ (32°32′ N, 113°58′ W).

(b) Federal fixed and tactical radio relay stations shall operate on a secondary basis to primary non-Federal operations at the 14 sites listed below:

State | Location | Coordinates
80 km radius of operation centered on:
CA | China Lake | 35°41′ N, 117°41′ W
CA | Pacific Missile Test Range/Point Mugu | 34°07′ N, 119°30′ W
FL | Eglin AFB | 30°29′ N, 086°31′ W
MD | Patuxent River | 38°17′ N, 076°25′ W
NM | White Sands Missile Range | 33°00′ N, 106°30′ W
NV | Nellis AFB | 36°14′ N, 115°02′ W
UT | Hill AFB | 41°07′ N, 111°58′ W
AL | Fort Rucker | 31°13′ N, 085°49′ W
CA | Fort Irwin | 35°16′ N, 116°41′ W
GA | Fort Benning | 32°22′ N, 084°56′ W
GA | Fort Stewart | 31°52′ N, 081°37′ W
KY | Fort Campbell | 36°41′ N, 087°28′ W
NC | Fort Bragg | 35°09′ N, 079°01′ W
WA | Fort Lewis | 47°05′ N, 122°36′ W

(c) In the sub-band 1710-1720 MHz, precision guided munitions shall operate on a primary basis until inventory is exhausted or until December 31, 2008, whichever is earlier.

(d) All other Federal stations in the fixed and mobile services shall operate on a primary basis until reaccommodated in accordance with the Commercial Spectrum Enhancement Act.

* * * * *

US381 The frequencies 5332 kHz, 5348 kHz, 5368 kHz, 5373 kHz, and 5405 kHz are allocated to the amateur service on a secondary basis. Amateur use of these frequencies shall be limited to 50 watts e.r.p. and to single sideband suppressed carrier modulation (emission designator 2K8J3E), upper sideband voice transmissions only.

* * * * *

US388 In the bands 81-86 GHz, 92-94 GHz, and 94.1-95 GHz and within the coordination distances indicated below, assignments to allocated services shall be coordinated with the following radio astronomy observatories. New observatories shall not receive protection from fixed stations that are licensed to operate in the one hundred most populous urbanized areas as defined by the U.S. Census Bureau for the year 2000.

Note: Satisfactory completion of the coordination procedure utilizing the automated mechanism, see 47 CFR 101.1523, will be deemed to establish sufficient separation from radio astronomy observatories, regardless of whether the distances set forth above are met.

Telescope and site | 150 kilometer (93 mile) radius centered on:: North latitude | 150 kilometer (93 mile) radius centered on:: West longitude
National Radio Astronomy Observatory (NRAO), Robert C. Byrd Telescope, Green Bank, WV | 38°25′59″ | 79°50′23″
NRAO, Very Large Array, Socorro, NM | 34°04′44″ | 107°37′06″
University of Arizona 12-m Telescope, Kitt Peak, AZ | 31°57′12″ | 111°36′53″
Caltech Telescope, Owens Valley, CA | 37°13′54″ | 118°17′36″
Five College Observatory, Amherst, MA | 42°23′30″ | 72°20′42″
Haystack Observatory, Westford, MA | 42°37′24″ | 71°29′18″
James Clerk Maxwell Telescope, Mauna Kea, HI | 19°49′33″ | 155°28′47″
Combined Array for Research in Millimeter-wave Astronomy (CARMA), CA | 37°16′43″ | 118°08′32″

NRAO, Very Long Baseline Array Stations | 25 kilometer (15.5 mile) radius centered on:: North latitude | 25 kilometer (15.5 mile) radius centered on:: West longitude
Brewster, WA | 48°07′52″ | 119°41′00″
Fort Davis, TX | 30°38′06″ | 103°56′41″
Hancock, NH | 42°56′01″ | 71°59′12″
Kitt Peak, AZ | 31°57′23″ | 111°36′45″
Los Alamos, NM | 35°46′30″ | 106°14′44″
Mauna Kea, HI | 19°48′05″ | 155°27′20″
North Liberty, IA | 41°46′17″ | 91°34′27″
Owens Valley, CA | 37°13′54″ | 118°16′37″
Pie Town, NM | 34°18′04″ | 108°07′09″
Saint Croix, VI | 17°45′24″ | 64°35′01″

* * * * *

US396 The band 7350-7400 kHz is allocated exclusively to the broadcasting service in accordance with the schedule specified below, except that, in Alaska, the sub-band 7368.5-7371.3 kHz is allocated to the fixed service on an exclusive basis for non-Federal use in accordance with 47 CFR 80.387.

(a) Until March 29, 2009, the band 7350-7400 kHz is allocated to the fixed service on a primary basis and to the mobile except aeronautical mobile service on a secondary basis for Federal and non-Federal use.

(b) After March 29, 2009, authority to operate in the band 7350-7400 kHz shall not be extended to new non-Federal stations in the fixed and mobile except aeronautical mobile services.

(c) After March 29, 2009, Federal and non-Federal stations in the fixed and mobile except aeronautical mobile services shall:

(1) Be limited to communications wholly within the United States and its insular areas;

(2) Not cause harmful interference to the broadcasting service;

(3) Be limited to the minimum power needed to achieve communications; and

(4) Take account of the seasonal use of frequencies by the broadcasting service published in accordance with Article 12 of the ITU Radio Regulations.

US397 In the band 432-438 MHz, the Earth exploration-satellite service (active) is allocated on a secondary basis for Federal use. Stations in the Earth exploration-satellite service (active) shall not be operated within line-of-sight of the United States except for the purpose of short duration pre-operational testing. Operations under this allocation shall not cause harmful interference to, nor claim protection from, any other services allocated in the band 432-438 MHz in the United States, including secondary services and the amateur-satellite service.

* * * * *

US399 Except as indicated below, the bands 161.9625-161.9875 MHz (AIS 1 with its center frequency at 161.975 MHz) and 162.0125-162.0375 MHz (AIS 2 with its center frequency at 162.025 MHz) are allocated to the maritime mobile service on a primary basis for Federal and non-Federal use, and shall be used exclusively for Automatic Identification Systems. However, in VHF Public Coast Station Areas (VPCSAs) 1-9, site-based VHF Public Coast stations licensed prior to November 13, 2006 may continue to operate on a co-primary basis in the band 161.9625-161.9875 MHz until expiration of the license term for licenses in active status as of November 13, 2006, and in VPCSAs 10-42, the band 161.9625-161.9875 MHz is allocated to the maritime mobile service on a primary basis for exclusive non-Federal use. See 47 CFR 80.371(c)(1)(ii) for the definitions of VPCSAs.

* * * * *

US401 In the band 17.7-17.8 GHz, Federal earth stations in the fixed-satellite service (space-to-Earth) may be authorized in the Denver, CO and Washington, DC areas on a primary basis. Before commencement of operations, the FCC shall coordinate fixed service applications supporting Multichannel Video Programming Distributors (MVPD) with NTIA.

* * * * *

Non-Federal Government (NG) Footnotes

* * * * *

NG1 The band 535-1705 kHz is also allocated to the mobile service on a secondary basis for the distribution of public service information from Travelers Information Stations operating in accordance with the provisions of 47 CFR 90.242 on 10 kilohertz spaced channels from 540 kHz to 1700 kHz.

* * * * *

NG28 In Puerto Rico and the United States Virgin Islands, the band 160.86-161.4 MHz is available for assignment to remote pickup broadcast stations on a shared basis with stations in the Industrial/Business Pool.

NG30 In Puerto Rico, the band 942-944 MHz is alternatively allocated to the fixed service (aural broadcast auxiliary stations).

* * * * *

NG51 In Puerto Rico and the United States Virgin Islands, the use of band 150.8-151.49 MHz by the fixed and land mobile services is limited to stations in the Industrial/Business Pool.

NG53 In the band 13.15-13.25 GHz, the following provisions shall apply:

(a) The sub-band 13.15-13.2 GHz is reserved for television pickup (TVPU) and cable television relay service (CARS) pickup stations inside a 50 km radius of the 100 television markets delineated in 47 CFR 76.51; and outside these areas, TVPU stations, CARS stations and non-geostationary satellite orbit fixed-satellite service (NGSO FSS) gateway earth stations shall operate on a co-primary basis.

(b) The sub-band 13.2-13.2125 GHz is reserved for TVPU stations on a primary basis and for CARS pickup stations on a secondary basis inside a 50 km radius of the 100 television markets delineated in 47 CFR 76.51; and outside these areas, TVPU stations and NGSO FSS gateway earth stations shall operate on a co-primary basis and CARS stations shall operate on a secondary basis.

(c) In the band 13.15-13.25 GHz, fixed television auxiliary stations licensed pursuant to applications accepted for filing before September 1, 1979, may continue operation, subject to periodic license renewals.

(d) In the sub-band 13.15-13.2125 GHz, NGSO FSS gateway uplink transmissions shall be limited to a maximum e.i.r.p. of 3.2 dBW towards 0° on the radio horizon.

Note: The above provisions shall not apply to geostationary satellite orbit (GSO) FSS operations in the band 12.75-13.25 GHz.

NG56 In the bands 72-73 and 75.4-76 MHz, the use of mobile radio remote control of models is on a secondary basis to all other fixed and mobile operations. Such operations are subject to the condition that interference will not be caused to common carrier domestic public stations, to remote control of industrial equipment operating in the band 72-76 MHz, or to the reception of television signals on channels 4 (66-72 MHz) or 5 (76-82 MHz). Television interference shall be considered to occur whenever reception of regularly used television signals is impaired or destroyed, regardless of the strength of the television signal or the distance to the television station.

* * * * *

NG66 The band 470-512 MHz (TV channels 14-20) is allocated to the broadcasting service on an exclusive basis throughout the United States and its insular areas, except as described below:

(a) In the urbanized areas listed in the table below, the indicated frequency bands are allocated to the land mobile service on an exclusive basis for assignment to eligibles in the Public Mobile Services, the Public Safety Radio Pool, and the Industrial/Business Radio Pool, except that:

(1) Licensees in the land mobile service that are regulated as Commercial Mobile Radio Service (CMRS) providers may also use their assigned spectrum to provide fixed service on a primary basis.

(2) The use of the band 482-488 MHz (TV channel 16) is limited to eligibles in the Public Safety Radio Pool in or near (i) the Los Angeles urbanized area; and (ii) New York City; Nassau, Suffolk, and Westchester Counties in New York State; and Bergen County, NJ.

Urbanized area | Bands (MHz) | TV channels
Boston, MA | 470-476, 482-488 | 14, 16
Chicago, IL-Northwestern IN | 470-476, 476-482 | 14, 15
Cleveland, OH | 470-476, 476-482 | 14, 15
Dallas-Fort Worth, TX | 482-488 | 16
Detroit, MI | 476-482, 482-488 | 15, 16
Houston, TX | 488-494 | 17
Los Angeles, CA | 470-476, 482-488, 506-512 | 14, 16, 20
Miami, FL | 470-476 | 14
New York, NY-Northeastern NJ | 470-476, 476-482, 482-488 | 14, 15, 16
Philadelphia, PA-NJ | 500-506, 506-512 | 19, 20
Pittsburgh, PA | 470-476, 494-500 | 14, 18
San Francisco-Oakland, CA | 482-488, 488-494 | 16, 17
Washington, DC-MD-VA | 488-494, 494-500 | 17, 18

(b) In the Gulf of Mexico offshore from the Louisiana-Texas coast, the band 476-494 MHz (TV channels 15-17) is allocated to the fixed and mobile services on a primary basis for assignment to eligibles in the Public Mobile and Private Land Mobile Radio Services.

(c) In Hawaii, the band 488-494 MHz (TV channel 17) is allocated exclusively to the fixed service for use by common carrier control and repeater stations for point-to-point inter-island communications only.

(d) The use of these allocations is further subject to the conditions set forth in 47 CFR parts 22 and 90.

* * * * *

NG112 The frequencies 25.04, 25.08, 150.980, 154.585, 158.445, 159.480, 454.000 and 459.000 MHz may be authorized to stations in the Industrial/Business Pool for use primarily in oil spill containment and cleanup operations and secondarily in regular land mobile communication.

* * * * *

NG124 In the bands 30.85-34, 37-38, 39-40, 42-47.41, 150.995-156.25, 158.715-159.465, 453.0125-453.9875, 458.0125-458.9875, 460.0125-465.6375, and 467.9375-467.9875 MHz, police licensees are authorized to operate low-power transmitters on a secondary basis in accordance with the provisions of 47 CFR 2.803 and 90.20(e)(5).

* * * * *

NG141 In Alaska, the frequencies 42.4 MHz and 44.1 MHz are authorized on a primary basis for meteor burst communications by fixed stations in the Rural Radio Service operating under the provisions of 47 CFR part 22. In Alaska, the frequencies 44.2 MHz and 45.9 MHz are authorized on a primary basis for meteor burst communications by fixed private radio stations operating under the provisions of 47 CFR part 90. The private radio station frequencies may be used by Common Carrier stations on a secondary, noninterference basis and the Common Carrier frequencies may be used by private radio stations for meteor burst communications on a secondary, noninterference basis. Users shall cooperate to the extent practical to minimize potential interference. Stations utilizing meteor burst communications shall not cause harmful interference to stations of other radio services operating in accordance with the Table of Frequency Allocations.

* * * * *

NG143 In the band 11.7-12.2 GHz, protection from harmful interference shall be afforded to transmissions from space stations not in conformance with ITU Radio Regulation No. 5.488 only if the operations of such space stations impose no unacceptable constraints on operations or orbit locations of space stations in conformance with No. 5.488.

NG144 Stations authorized as of September 9, 1983 to use frequencies in the bands 17.7-18.3 GHz and 19.3-19.7 GHz may, upon proper application, continue operations. Fixed stations authorized in the band 18.3-19.3 GHz that remain coprimary under the provisions of 47 CFR 21.901(e), 74.502(c), 74.602(g), 78.18(a)(4), and 101.147(r) may continue operations consistent with the provisions of those sections.

* * * * *

NG147 In the band 2483.5-2500 MHz, non-Federal stations in the fixed and mobile services that are licensed under 47 CFR parts 74, 90, or 101, which were licensed as of July 25, 1985, and those whose initial applications were filed on or before July 25, 1985, may continue to operate on a primary basis with the mobile-satellite and radiodetermination-satellite services, and in the sub-band 2495-2500 MHz, these grandfathered stations may also continue to operate on a primary basis with stations in the fixed and mobile except aeronautical mobile services that are licensed under 47 CFR part 27.

* * * * *

NG149 The bands 54-72 MHz, 76-88 MHz, 174-216 MHz, 470-512 MHz, 512-608 MHz, and 614-698 MHz are also allocated to the fixed service to permit subscription television operations in accordance with 47 CFR part 73.

* * * * *

NG155 The bands 159.500-159.675 MHz and 161.375-161.550 MHz are allocated to the maritime service as described in 47 CFR part 80. Additionally, the frequencies 159.550, 159.575 and 159.600 MHz are available for low-power intership communications.

* * * * *

NG158 The bands 763-775 MHz and 793-805 MHz are available for assignment to the public safety services, as described in 47 CFR part 90.

NG159 Any full-power television licensee that holds a television broadcast license to operate between 698 and 806 megahertz (TV channels 52-69) shall be entitled to protection from harmful interference through February 17, 2009, and may not operate at that frequency after February 17, 2009. Auxiliary broadcast stations (i.e., low-power TV stations, translator stations, booster stations, TV auxiliary (backup) facilities, and low-power auxiliary stations) may continue to operate indefinitely in the band 698-806 MHz on a secondary basis to all other stations operating in that band.

NG160 In the band 5850-5925 MHz, the use of the non-Federal mobile service is limited to Dedicated Short Range Communications operating in the Intelligent Transportation System radio service.

NG163 The use of the band 17.3-17.7 GHz by the broadcasting-satellite service is limited to geostationary satellites.

* * * * *

NG167 The use of the band 24.75-25.25 GHz by the fixed-satellite service (Earth-to-space) is limited to feeder links for the broadcasting-satellite service.

* * * * *

NG172 In the band 7025-7075 MHz, the fixed-satellite service (space-to-Earth) is allocated on a primary basis, but the use of this allocation shall be limited to two grandfathered satellite systems. Associated earth stations located within 300 meters of the following locations shall be grandfathered: (a) In the band 7025-7075 MHz, Brewster, WA (48°08′46.7″ N., 119°42′8.0″ W.); and (b) In the sub-band 7025-7055 MHz, Clifton, TX (31°47′58.5″ N., 97°36′46.7″ W.) and Finca Pascual, PR (17°58′41.8″ N., 67°8′12.6″ W.).

NG173 In the band 216-220 MHz, secondary telemetry operations are permitted subject to the requirements of 47 CFR 90.259. After January 1, 2002, no new assignments shall be authorized in the sub-band 216-217 MHz.

NG175 In the band 38.6-40 GHz, television pickup stations that were authorized on or before April 16, 2003, may continue to operate on a secondary basis to stations operating in accordance with the Table of Frequency Allocations.

* * * * *

NG184 Land mobile stations in the bands 11.7-12.2 GHz and 14.2-14.4 GHz and fixed stations in the band 11.7-12.1 GHz that are licensed pursuant to 47 CFR part 101, subpart J as of March 1, 2005 may continue to operate on a secondary basis until their license expires. Existing licenses issued pursuant to 47 CFR part 101, subpart J will not be renewed in the bands 11.7-12.2 GHz and 14.2-14.4 GHz.

* * * * *

Federal Government (G) Footnotes

* * * * *

G2 In the bands 216-217 MHz, 220-225 MHz, 420-450 MHz (except as provided by US217 and G129), 890-902 MHz, 928-942 MHz, 1300-1390 MHz, 2310-2390 MHz, 2417-2450 MHz, 2700-2900 MHz, 3300-3500 MHz (except as provided by footnote US108), 5650-5925 MHz, and 9000-9200 MHz, the Federal radiolocation service is limited to the military services.

* * * * *

G6 Military tactical fixed and mobile operations may be conducted nationally on a secondary basis: (a) To the meteorological aids service in the band 403-406 MHz; and (b) To the radio astronomy service in the band 406.1-410 MHz. Such fixed and mobile operations are subject to local coordination to ensure that harmful interference will not be caused to the services to which the bands are allocated.

* * * * *

G127 Federal Travelers Information Stations (TIS) on 1610 kHz have coprimary status with AM Broadcast assignments. Federal TIS authorized as of August 4, 1994, preclude subsequent assignment for conflicting allotments.

* * * * *

G133 In the band 7190-7235 MHz, emissions to deep space are prohibited. Geostationary satellites in the space research service operating in the band 7190-7235 MHz shall not claim protection from existing and future stations in the fixed service and ITU Radio Regulation No. 5.43A does not apply.

PART 25—SATELLITE COMMUNICATION

7. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

8. Section 25.202 is amended by revising paragraph (a)(1) to read as follows:

§ 25.202 Frequencies, frequency tolerance and emission limitations.

(a)(1) Frequency band. The following frequencies are available for use by the fixed-satellite service. Precise frequencies and bandwidths of emission shall be assigned on a case-by-case basis. The Table follows:

Space-to-earth (GHz) | Earth-to-space (GHz)
3.65-3.7 ¹⁷ | ¹² ¹⁹ 5.091-5.25
3.7-4.2 ¹ | ¹ 5.925-6.425
6.7-7.025 ¹² | ¹ ¹² ¹⁴ 12.75-13.25
10.7-10.95 ¹ ¹² | ⁴ ¹² 13.75-14
10.95-11.2 ¹ ² ¹² | ⁵ 14-14.2
11.2-11.45 ¹ ¹² | 14.2-14.5
11.45-11.7 ¹ ² ¹² | ¹² ²⁰ 15.43-15.63
11.7-12.2 ³ | ⁹ 17.3-17.8
12.2-12.7 ¹³ | ¹⁸ 24.75-25.05
18.3-18.58 ¹ ¹⁰ | ¹ ¹⁸ 25.05-25.25
18.58-18.8 ⁶ ¹⁰ ¹¹ | ¹27.5-29.5
18.8-19.3 ⁷ ¹⁰ | 29.5-30
19.3-19.7 ⁸ ¹⁰ | ¹ 47.2-50.2
19.7-20.2 ¹⁰
37.5-40 ¹⁵ ¹⁶
40-42 ¹⁶
¹ This band is shared coequally with terrestrial radiocommunication services.
² Use of this band by geostationary satellite orbit satellite systems in the fixed-satellite service is limited to international systems; i.e., other than domestic systems.
³ Fixed-satellite transponders may be used additionally for transmissions in the broadcasting-satellite service.
⁴ This band is shared on an equal basis with the Government radiolocation service and grandfathered space stations in the Tracking and Data Relay Satellite System.
⁵ In this band, stations in the radionavigation service shall operate on a secondary basis to the fixed-satellite service.
⁶ The band 18.58-18.8 GHz is shared coequally with existing terrestrial radiocommunication systems until June 8, 2010.
⁷ The band 18.8-19.3 GHz is shared coequally with terrestrial radiocommunication services, until June 8, 2010. After this date, the sub-band 19.26-19.3 GHz is shared coequally with existing terrestrial radiocommunication systems.
⁸ The use of the band 19.3-19.7 GHz by the fixed-satellite service (space-to-Earth) is limited to feeder links for the mobile-satellite service.
⁹ The use of the band 17.3-17.8 GHz by the fixed-satellite service (Earth-to-space) is limited to feeder links for broadcasting-satellite service, and the sub-band 17.7-17.8 GHz is shared coequally with terrestrial fixed services.
¹⁰ This band is shared coequally with the Federal Government fixed-satellite service.
¹¹ The band 18.6-18.8 GHz is shared coequally with the non-Federal Government and Federal Government Earth exploration-satellite (passive) and space research (passive) services.
¹² Use of this band by nongeostationary satellite orbit systems in the fixed-satellite service is limited to gateway earth station operations.
¹³ Use of this band by the fixed-satellite service is limited to nongeostationary satellite orbit systems.
¹⁴ Use of this band by NGSO FSS gateway earth station uplink operations is subject to the provisions of § 2.106 NG53.
¹⁵ Use of this band by the fixed-satellite service is limited to “gateway” earth station operations, provided the licensee under this Part obtains a license under Part 101 of this Chapter or an agreement from a Part 101 licensee for the area in which an earth station is to be located. Satellite earth station facilities in this band may not be ubiquitously deployed and may not be used to serve individual consumers.
¹⁶ The band 37.5-40.0 GHz is designated as being available for use by the fixed and mobile services and the band 40.0-42.0 GHz is designated as being available for use by the fixed-satellite service.
¹⁷ FSS earth stations in this band must operate on a secondary basis to terrestrial radiocommunication services, except that the band is shared coequally between certain grandfathered earth stations and the terrestrial radiocommunication services.
¹⁸ Use of the band 24.75-25.25 GHz by the fixed-satellite service (Earth-to-space) is limited to feeder links for space stations in the broadcasting-satellite service, and the sub-band 25.05-25.25 GHz is shared coequally with terrestrial fixed services.
¹⁹ See 47 CFR 2.106, footnotes 5.444A and US344, for conditions that apply to this band.
²⁰ See 47 CFR 2.106, footnotes 5.511C and US359, for conditions that apply to this band.

* * * * *

9. Section 25.208 is amended by revising paragraph (n) to read as follows:

§ 25.208 Power flux density limits.

* * * * *

(n) The power-flux density at the Earth's surface produced by emissions from a space station in the fixed-satellite service (space-to-Earth), for all conditions and for all methods of modulation, shall not exceed the limits given in Table N. These limits relate to the power flux-density which would be obtained under assumed free-space conditions.

Table N.—Limits of Power-Flux Density From Space Stations in the Band 6700-7075 MHz
Frequency band | Limit in dB (W/m²) for angle of arrival (δ) above the horizontal plane: 0°-5° | Limit in dB (W/m²) for angle of arrival (δ) above the horizontal plane: 5°-25° | Limit in dB (W/m²) for angle of arrival (δ) above the horizontal plane: 25°-90° | Reference bandwidth
6700-6825 MHz | −137 | −137 + 0.5(δ−5) | −127 | 1 MHz.
6825-7075 MHz | −154 and | −154 + 0.5(δ−5) and | −144 and | 4 kHz.
| −134 | −134 + 0.5(δ−5) | −124 | 1 MHz.

* * * * *

PART 73—RADIO BROADCAST SERVICES

10. The authority citation for part 73 continues to read as follows:

Authority: 47 U.S.C. 154, 303, 334, 336, and 339.

11. Sections 73.702 is amended by revising paragraphs (f)(1), (g)(1), and (g)(2)(i) to read as follows:

§ 73.702 Assignment and use of frequencies.

* * * * *

(f) * * *

(1) Worldwide allocations. In the ITU Radio Regulations, the following bands are allocated to the broadcasting service on a primary and exclusive basis throughout the world: 5900-6200 kHz, 7300-7350 kHz, 9400-9900 kHz, 11600-12100 kHz, 13570-13870 kHz, 15100-15800 kHz, 17480-17900 kHz, 18900-19020 kHz, 21450-21850 kHz, and 25670-26100 kHz.

* * * * *

(g) * * *

(1) Worldwide allocations. Until March 29, 2009, the band 7350-7400 kHz is allocated to the broadcasting and fixed services on a co-primary basis throughout the world. After March 29, 2009, the band 7350-7400 kHz is allocated to the broadcasting service on an exclusive basis throughout the world, except in the countries listed in 47 CFR 2.106, footnote 5.143C where the band 7350-7400 kHz continues to be allocated to the broadcasting and fixed services on a co-primary basis.

(2) * * * (i) Until March 29, 2009, the band 7100-7200 kHz is allocated to the amateur and broadcasting services on a co-primary basis in Region 1 and Region 3; however, during this transition period, the use of the band 7100-7200 kHz by the amateur service shall not impose constraints on the broadcasting service intended for use within Region 1 and Region 3. Where practical, requests for frequency assignments in the band 7100-7200 kHz shall be satisfied within the band 7200-7350 kHz. After March 29, 2009, the band 7100-7200 kHz is no longer allocated to the broadcasting service.

* * * * *

PART 74—EXPERIMENTAL RADIO, AUXILIARY, SPECIAL BROADCAST AND OTHER PROGRAM DISTRIBUTIONAL SERVICES

12. The authority citation for part 90 continues to read as follows:

Authority: 47 U.S.C. 154, 303, 307, 336(f), 336(h) and 554.

13. Section 74.502 is amended by revising paragraph (a) to read as follows:

§ 74.502 Frequency assignment.

(a) Except as provided in NG30, broadcast auxiliary stations licensed as of November 21, 1984, to operate in the band 942-944 MHz ¹ may continue to operate on a co-equal, primary basis to other stations and services operating in the band in accordance with the Table of Frequency Allocations. These stations will be protected from possible interference caused by new users of the band by the technical standards specified in § 101.105(c)(2).

¹ Note: In addition to this band, stations in Puerto Rico may continue to be authorized on 942.5, 943.0, 943.5, 944.0 MHz in the band 942-944 MHz on a primary basis to stations and services operating in accordance with the Table of Frequency Allocations.

* * * * *

PART 90—PRIVATE LAND MOBILE RADIO SERVICES

14. The authority citation for part 90 continues to read as follows:

Authority: Sections 4(i), 11, 303(g), 303(r), and 332(c)(7) of the Communications Act of 1934, as amended, 47 U.S.C. 154(i), 161, 303(g), 303(r), 332(c)(7).

15. Section 90.103 is amended by removing the entry “15,700 to 17,700” MHz and adding in its place the entry “15,700 to 17,300” MHz in the Radiolocation Service Frequency Table in paragraph (b) to read as follows:

§ 90.103 Radiolocation Service.

* * * * *

(b) Frequencies available. * * *

Radiolocation Service Frequency Table
Frequency or band | Class of station(s) | Limitation
* * * * * * *
Megahertz
* * * * * * *
15,700 to 17,300 | ......do |
* * * * * * *

* * * * *

16. Section 90.242 is amended by revising paragraph (a)(3) to read as follows:

§ 90.242 Travelers' information stations.

(a) * * *

(3) Travelers' Information Stations will be authorized on a primary basis on 530 kHz and on a secondary basis to stations authorized on a primary basis in the band 535-1705 kHz.

* * * * *

PART 97—AMATEUR RADIO SERVICE

17. The authority citation for part 97 continues to read as follows:

Authority: 48 Stat. 1066, 1082, as amended; 47 U.S.C. 154, 303. Interpret or apply 48 Stat. 1064-1068, 1081-1105, as amended; 47 U.S.C. 151-155, 301-609, unless otherwise noted.

18. Section 97.301 is amended by revising the introductory text and the tables in paragraphs (a), (d), and (e) to read as follows:

§ 97.301 Authorized frequency bands.

* * * * *

(a) For a station having a control operator who has been granted a Technician, Technician Plus, General, Advanced, or Amateur Extra Class operator license, who holds a CEPT radio amateur license, or who holds any class of IARP:

Wavelength band | ITU—Region 1 | ITU—Region 2 | ITU—Region 3 | Sharing requirements see § 97.303 (Paragraph)
VHF | MHz | MHz | MHz |
6 m |  | 50-54 | 50-54 | (a)
2 m | 144-146 | 144-148 | 144-148 | (a)
1.25 m |  | 219-220 |  | (a), (e)
Do |  | 222-225 |  | (a)
UHF | MHz | MHz | MHz |
70 cm | 430-440 | 420-450 | 420-450 | (a), (b), (f)
33 cm |  | 902-928 |  | (a), (b), (g)
23 cm | 1240-1300 | 1240-1300 | 1240-1300 | (b), (h), (i)
13 cm | 2300-2310 | 2300-2310 | 2300-2310 | (a), (b), (j)
Do | 2390-2450 | 2390-2450 | 2390-2450 | (a), (b), (j)
SHF | GHz | GHz | GHz |
9 cm | 3.4-3.475 | 3.3-3.5 | 3.3-3.5 | (a), (b), (k), (l)
5 cm | 5.650-5.850 | 5.650-5.925 | 5.650-5.850 | (a), (b), (m)
3 cm | 10.00-10.50 | 10.00-10.50 | 10.00-10.50 | (a), (c), (i), (n)
1.2 cm | 24.00-24.25 | 24.00-24.25 | 24.00-24.25 | (a), (b), (i), (o)
EHF | GHz | GHz | GHz |
6 mm | 47.0-47.2 | 47.0-47.2 | 47.0-47.2 |
4 mm | 76-81 | 76-81 | 76-81 | (b), (c), (h), (k), (r)
2.5 mm | 122.25-123 | 122.25-123 | 122.25-123 | (p)
2 mm | 134-141 | 134-141 | 134-141 | (b), (c), (h), (k)
1 mm | 241-250 | 241-250 | 241-250 | (b), (c), (h), (k), (q)
| above 275 | above 275 | above 275 | (k)

* * * * *

(d) For a station having a control operator who has been granted an operator license of General Class:

Wavelength band | ITU—Region 1 | ITU—Region 2 | ITU—Region 3 | Sharing requirements see § 97.303 (Paragraph)
MF | kHz | kHz | kHz |
160 m | 1810-1850 | 1800-2000 | 1800-2000 | (a), (b), (c)
HF | MHz | MHz | MHz |
80 m | 3.525-3.60 | 3.525-3.60 | 3.525-3.60 | (a)
75 m |  | 3.80-4.00 | 3.80-3.90 | (a)
40 m | 7.025-7.125 | 7.025-7.125 | 7.025-7.125 | (a)
Do |  | 7.175-7.300 |  | (a)
30 m | 10.10-10.15 | 10.10-10.15 | 10.10-10.15 | (d)
20 m | 14.025-14.150 | 14.025-14.150 | 14.025-14.150 |
Do | 14.225-14.350 | 14.225-14.350 | 14.225-14.350 |
17 m | 18.068-18.168 | 18.068-18.168 | 18.068-18.168 |
15 m | 21.025-21.200 | 21.025-21.200 | 21.025-21.200 |
Do | 21.275-21.45 | 21.275-21.45 | 21.275-21.45 |
12 m | 24.89-24.99 | 24.89-24.99 | 24.89-24.99 |
10 m | 28.0-29.7 | 28.0-29.7 | 28.0-29.7 |

(e) For a station having a control operator who has been granted an operator license of Novice Class, Technician Class, or Technician Plus Class:

Wavelength band | ITU—Region 1 | ITU—Region 2 | ITU—Region 3 | Sharing requirements see § 97.303 (Paragraph)
HF | MHz | MHz | MHz
80 m | 3.525-3.60 | 3.525-3.60 | 3.525-3.60 | (a)
40 m | 7.025-7.075 | 7.025-7.100 | 7.025-7.075 |
Do | 7.100-7.125 | 7.100-7.125 | 7.100-7.125 | (a), (t)
15 m | 21.025-21.20 | 21.025-21.20 | 21.025-21.20 |
10 m | 28.0-28.5 | 28.0-28.5 | 28.0-28.5 |
VHF | MHz | MHz | MHz |
1.25 m |  | 222-225 |  | (a)
UHF | MHz | MHz | MHz |
23 cm | 1270-1295 | 1270-1295 | 1270-1295 | (h), (i)

19. Section 97.303 is amended by revising paragraphs (b) and (r) to read as follows:

§ 97.303 Frequency sharing requirements.

* * * * *

(b) No amateur station transmitting in the 1900-2000 kHz segment, the 70 cm band, the 33 cm band, the 23 cm band, the 13 cm band, the 9 cm band, the 5 cm band, the 3 cm band, the 24.05-24.25 GHz segment, the 76-77.5 GHz segment, the 78-81 GHz segment, the 136-141 GHz segment, and the 241-248 GHz segment shall cause harmful interference to, nor is protected from interference due to the operation of, the Federal radiolocation service.

* * * * *

(r) Authorization of the 76-77 GHz segment of the 4 mm band for amateur station transmissions is suspended until such time that the Commission may determine that amateur station transmissions in this segment will not pose a safety threat to vehicle radar systems operating in this segment.

* * * * *

[FR Doc. E8-9341 Filed 5-5-08; 8:45 am]

BILLING CODE 6712-01-P